DEPARTMENT OF THE TREASURY

Bureau of Engraving and Printing

31 CFR Part 605

Conduct on Bureau of Engraving and Printing Property

AGENCY: Bureau of Engraving and Printing, Treasury.

ACTION: Final rule.

SUMMARY: The Department of the Treasury, Bureau of Engraving and Printing (BEP or Bureau) is amending its regulations in order to remove certain obsolete language, clarify the rules of conduct on the property, and increase the maximum penalty amount permitted for violations to $5,000 in accordance with the United States Code.

DATES: This regulation is effective April 4, 2016.

FOR FURTHER INFORMATION CONTACT: Mark Hoggan, Attorney-Advisor, Office of the Chief Counsel, Department of the Treasury, Bureau of Engraving and Printing, by phone at (202) 874-2500.

SUPPLEMENTARY INFORMATION:

I. Background

The mission of the Bureau of Engraving and Printing is to develop and produce United States currency notes, trusted worldwide. BEP prints billions of dollars in currency—referred to as Federal Reserve notes—each year for delivery to the Federal Reserve System. Due to the sensitive nature of currency production operations, the Bureau is generally closed to the public. Limited areas of the Bureau, however, are accessible for public tours during certain authorized dates and times. Any individual entering, exiting, or on the Bureau's property is subject to the rules of conduct as prescribed within the regulations, and violations may result in criminal prosecution. The BEP has a high degree of security due to producing United States currency notes, and individuals entering, exiting, and on the property are placed on notice that they are subject to search and inspection of their person, personal items and property while entering, exiting, and on the property.

This final rule updates the Bureau's 1994 (59 FR 41978) regulations that concern conduct on BEP property. The final rule removes certain obsolete language, clarifies the rules of conduct on the property, and increases the maximum penalty amount permitted for violations to $5,000 in accordance with 18 U.S.C. 3571. The final rule also omits the term Special as used in the previous regulations when referring to the BEP Police. The term Special was unnecessary and could lead to potential confusion. This change has no effect on the legal authority and jurisdiction of the BEP Police. The rights and responsibilities of the BEP Police remain unchanged.

The notice of proposed rulemaking was published on December 10, 2015, and provided a 60-day comment period, which ended on February 8, 2016. No comments were received. Based on the rationale set forth in the Supplementary Information to the notice of proposed rulemaking and in this final rule, the BEP is adopting the proposed rule as a final rule with the slight modifications of adding the words “search or” before the word “inspection” in paragraphs (b)(6), (b)(7), and (b)(8) to ensure clarity and consistency between related provisions.

II. Regulatory Flexibility Act

In accordance with the Regulatory Flexibility Act (5 U.S.C 601 et seq.), the Bureau certifies that this final rule will not have a significant economic impact on a substantial number of small entities because this final rule primarily affects individuals accessing BEP property and is not likely to affect any small businesses.

III. Unfunded Mandates Reform Act of 1995

The Bureau certifies that no actions were deemed necessary under the Unfunded Mandates Reform Act of 1995. Furthermore, this final rule will not result in the expenditure by State, local, and tribal governments, in the aggregate, or by the private sector, of $100,000,000 or more in any one year, and will not significantly or uniquely affect small governments.

IV. Regulatory Planning and Review (Executive Orders 12866 and 13563)

This final rule is not a significant regulatory action as defined in Executive Order 12866. Executive Order 13563 calls for public participation and an open exchange of ideas in the regulatory process and seeks regulations that are accessible, consistent, written in plain language, and easy to understand. The Bureau has developed this final rule in a manner consistent with these principles.

List of Subjects in 31 CFR Part 605

Federal buildings and facilities.

For the reasons stated in the preamble, the Bureau of Engraving and Printing amends 31 CFR part 605 to read as follows:

PART 605—REGULATIONS GOVERNING CONDUCT IN BUREAU OF ENGRAVING AND PRINTING BUILDINGS AND ON THE GROUNDS OF WASHINGTON, DC AND FORT WORTH, TEXAS

1. The authority citation for part 605 continues to read as follows:

Authority: 5 U.S.C. 301; Delegation, Administrator, General Services, dated December 3, 1992; Treasury Delegation, Assistant Secretary (Management), dated February 4, 1993.

2. Revise § 605.1 to read as follows:

§ 605.1 Conduct on Bureau of Engraving and Printing property.

(a) Applicability. These regulations apply to the buildings and grounds of the Bureau of Engraving and Printing (BEP) located in Washington, DC, at 14th and C Streets SW., and in Fort Worth, Texas, at 9000 Blue Mound Road, and to all persons entering on such property. Unless otherwise stated, BEP buildings and grounds are referred to in these regulations as the “property.”

(b) Limited access. (1) The property is a high-security facility and shall, in general, be closed to the public. Except as specified in this paragraph (b), access is limited to BEP employees and those persons having official business with BEP. Failure to comply with any regulations of this part may result in denial of access or removal from the property.

(2) Public tours of limited areas of the property are available during such times as the Director may prescribe.

(3) Limited areas of the property may be open to persons authorized by the Director or the Director's designee.

(4) All persons entering and exiting the property may be required to present suitable identification and may be required to sign entry logs or registers.

(5) All persons entering and exiting the property may be subject to screening devices and shall submit to screening upon request by BEP Police or authorized officials.

(6) All persons entering and exiting the property may be subject to search or inspection of their person, handbags, briefcases, and other handheld articles by BEP Police or authorized officials. All persons on the property may be subject to additional search or inspection by BEP Police or authorized officials upon entry, exit, and request.

(7) All motor vehicles entering, exiting, or located on the property are subject to search or inspection of the exterior and interior compartments by BEP Police or authorized officials at any time.

(8) All lockers, cabinets, closets, desks or similar storage areas on the property are subject to search or inspection by BEP Police or authorized officials.

(9) All computers, data storage devices, and data files owned or controlled by BEP are subject to search or inspection at any time.

(10) Any entrance onto the property without official permission is prohibited.

(c) Video monitoring. All persons entering, exiting, and on the property will be monitored by video. Most internal areas of the property, especially production areas, are continuously monitored by video. Any video image may be recorded.

(d) Preservation of property. It shall be unlawful for any person, without proper authority, to willfully destroy, damage, deface, or remove property.

(e) Compliance with instructions and signs. All persons on the property shall comply with the instructions of BEP Police, authorized officials, and posted signs or notices.

(f) Nuisances. The use of loud, abusive, or profane language, loitering, unauthorized assembly, the creation of any hazard to persons or property, improper disposal of rubbish, spitting, prurient prying, the commission of any obscene or indecent act, or any other disorderly conduct on the property is prohibited. The throwing of any articles of any kind in, upon, or from the property and climbing upon any unauthorized portion of the property is prohibited.

(g) Gambling. (1) Participation in games for money or other property, the operation of gambling devices, the conduct of a lottery or pool, the selling or purchasing of numbers, tickets, or any other gambling on the property is prohibited.

(2) Possession on the property of any numbers slip or ticket, record, notation, receipt or other writing of a type ordinarily used in any illegal form of gambling, unless explained to the satisfaction of the Director or the Director's designee, shall be evidence of participation in an illegal form of gambling on the property.

(h) Intoxicating substances, illegal narcotics, and other controlled substances. The possession, use, consumption, or being under the influence of intoxicating substances, illegal narcotics, and other controlled substances (see 21 CFR part 1308) while entering and on the property is prohibited. BEP Police may direct a person to complete a field sobriety test or breathalyzer test upon reasonable suspicion of intoxication or influence. The Director may authorize the possession, use, and consumption of alcoholic beverages on BEP property for infrequent, special occasions. Such authorization must be in writing.

(i) Soliciting, vending, debt collection, and distribution of handbills. Fundraising for any cause other than the Combined Federal Campaign or other cause authorized by the Office of Personnel Management, the commercial soliciting and vending of all kinds, the display or distribution of commercial advertising, or the collecting of private debts other than as provided by law, in or on the property is prohibited. This rule does not apply to BEP concessions or notices posted by authorized employees on the bulletin boards. Distribution of material such as pamphlets, handbills, and flyers is prohibited without prior approval from the Director or the Director's designee.

(j) Photographs and recordings. The taking of photographs on the property is prohibited without permission of the Director or the Director's designee. The taking of voice or video recordings on the property is prohibited without the permission of the Director or the Director's designee. Note: The property includes the Tour and Visitor Center and the limited areas accessible for public tour.

(k) Animals. Animals, except service animals, shall not be brought on the property for other than official purposes.

(l) Vehicular and pedestrian traffic. (1) Drivers of all vehicles on the property shall drive in a careful and safe manner at all times and shall comply with the signals and directions of BEP Police and all posted traffic signs. Drivers are subject to all applicable motor vehicle laws and regulations of the surrounding jurisdiction.

(2) The blocking of entrances, driveways, walks, loading platforms, fire hydrants, or standpipes on the property is prohibited.

(3) Parking on the property is not allowed without a permit or authority. Parking without a permit or authority, not in accordance with a permit or authority, or contrary to the direction of BEP Police, authorized officials, and posted signs or notices is prohibited.

(m) Weapons and explosives. No person on the property shall carry firearms, explosives, or other dangerous or deadly weapons as defined by Title 18 United States Code, either openly or concealed, except for official purposes.

(n) Smoking. Smoking on the property is not permitted except in designated smoking areas.

(o) Penalties and other law. (1) Violations of this part shall be punishable by a fine of not more than $5,000 or the maximum extent allowable under the United States Code, whichever is greater, or imprisonment of not more than 30 days, or both in accordance with 40 United States Code, Section 1315.

(2) Violations of 18 United States Code, Section 930 (dangerous weapon clause) shall be punishable by a fine of $100,000 or imprisonment for not more than a year, or both, unless there is intent to commit a crime with the weapon, in which case the punishment shall be a fine of $250,000 or imprisonment for not more than five years, or both.

(3) Nothing contained in this part shall be construed to abrogate any other Federal, District of Columbia, or Texas law or regulations, or any Tarrant County ordinance applicable to the property.

Dated: February 24, 2016.
Leonard R. Olijar,
Director.

[FR Doc. 2016-04817 Filed 3-3-16; 8:45 am]

BILLING CODE 4840-01-P